DEPARTMENT OF LABOR

Employment and Training Administration

[TA-W-74,205]

River Bend Industries, LLC, Including On-Site Leased Workers From FirstStaff, Trac Staffing, and Worksource, Inc., Fort Smith, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on August 2, 2010, applicable to workers of River Bend Industries, LLC including on-site leased workers from FirstStaff, Trac Staffing, Worksource, Inc., Fort Smith, Arkansas. The Department's notice of determination was published in the Federal Register on August 23, 2010 (75 FR 51846).

At the request of the State of Arkansas, the Department reviewed the certification for workers of the subject firm. The workers were engaged in the production of plastic parts for appliances.

The company reports that workers leased from Trac Staffing and Worksource, Inc. were employed on-site at the Fort Smith, Arkansas location of River Bend Industries, LLC. The Department has determined that these workers were sufficiently under the control of the subject firm to be considered leased workers.

Based on these findings, the Department is amending this certification to include workers leased from Trac Staffing and Worksource, Inc., working on-site at the Fort Smith, Arkansas location of River Bend Industries.

The amended notice applicable to TA-W-74,205 is hereby issued as follows:

All workers of River Bend Industries, LLC, including on-site leased workers from FirstStaff, Trac Staffing and Worksource, Inc., Fort Smith, Arkansas, who became totally or partially separated from employment on or after May 10, 2009, through August 2, 2012, and all workers in the group threatened with total or partial separation from employment on the date of certification through two years from the date of certification, are eligible to apply for adjustment assistance under Chapter 2 of Title II of the Trade Act of 1974, as amended.

Signed in Washington, DC this 21st day of August, 2012.
Del Min Amy Chen,
Certifying Officer, Office of Trade Adjustment Assistance.

[FR Doc. 2012-21621 Filed 8-31-12; 8:45 am]

BILLING CODE 4510-FN-P